DEPARTMENT OF TRANSPORTATION

Federal Railroad Administration

[Docket Number FRA-2007-28700]

Petition for Extension of Waiver of Compliance

Under part 211 of title 49 Code of Federal Regulations (CFR), this document provides the public notice that on June 10, 2022, Kansas City Southern Railway Company (KCSR), jointly with its affiliate Kansas City Southern de Mexico (KCSM), petitioned the Federal Railroad Administration (FRA) for an extension of a waiver of compliance from certain provisions of the Federal railroad safety regulations contained at 49 CFR parts 215 (Railroad Freight Car Safety Standards), and 232 (Brake System Safety Standards for Freight and Other Non-Passenger Trains and Equipment; End-of-Train Devices (EOTDs)). The relevant FRA Docket Number is FRA-2007-28700.

Specifically, KCSR requested an extension of its relief from 49 CFR 232.205, Class I brake test-initial terminal inspection, and certain provisions of 49 CFR part 215, for freight cars received in interchange from KCSM at the U.S./Mexico border crossing and international bridge in Laredo, Texas, to permit required inspections to be conducted in KCSR's Laredo Yard, approximately 9 miles north of the bridge.

The petition notes that KCSM operates some trains over KCSR's line from the international rail bridge crossing to KCSR's Laredo Yard for purposes of interchange. KCSR asks that this waiver also be applied explicitly to trains operated by KCSM. The petition notes that “[w]hether a train is labeled as a KCSR train or a KCSM train” once it “crosses the border, it is still the same train—same locomotives, same EOTDs, and same cars inspected by the same KCSM mechanical forces.” KCSR and KCSM “are commonly owned by their parent company, Kansas City Southern,” and “have substantial overlap in their administrative and operational management, operate according to similar procedures and rules, and utilize the same or similar equipment.” KCSM operates trains to KCSR's Laredo Yard “pursuant to an interchange agreement with KCSR.”

The petition seeks to continue moving trains from the rail bridge to KCSR's Laredo Yard after performing a Class III brake test at the bridge, rather than performing a Class I initial terminal inspection. KCSR explains that a full Class I initial terminal inspection will be performed at Laredo Yard on every train before it is moved beyond the yard. In support of its petition, KCSR states that the waiver contributes to border security and that no incidents have been attributed to this relief in the past fourteen years.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by September 8, 2022 will be considered by FRA before final action is taken. Comments received after that date will be considered if practicable. Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2022-15801 Filed 7-22-22; 8:45 am]

BILLING CODE 4910-06-P